DEPARTMENT OF TRANSPORTATION

Federal Aviation Administration

14 CFR Part 39

[Docket No. FAA-2020-1018; Project Identifier MCAI-2020-01383-R; Amendment 39-21391; AD 2021-02-08]

RIN 2120-AA64

Airworthiness Directives; Airbus Helicopters

AGENCY: Federal Aviation Administration (FAA), DOT.

ACTION: Final rule.

SUMMARY: The FAA is superseding Airworthiness Directive (AD) 2018-19-01, which applied to all Airbus Helicopters Model AS-365N2, AS 365 N3, EC 155B, EC155B1, SA-365N1, and SA-366G1 helicopters. AD 2018-19-01 required repetitive inspections of the aft fuselage outer skin. This AD continues to require repetitive inspections and adds Model SA-365N helicopters, as specified in a European Union Aviation Safety Agency (EASA) AD, which is incorporated by reference. This AD was prompted by aft fuselage (baggage compartment area) outer skin disbonding and a determination that Model SA-365N helicopters are also affected by the unsafe condition identified in AD 2018-19-01. The FAA is issuing this AD to address the unsafe condition on these products.

DATES: This AD is effective April 15, 2021.

The Director of the Federal Register approved the incorporation by reference of certain publications listed in this AD as of April 15, 2021.

The Director of the Federal Register approved the incorporation by reference of a certain other publication listed in this AD as of October 22, 2018 (83 FR 46862, September 17, 2018).

ADDRESSES: For EASA material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. For Airbus Helicopters service information identified in this final rule, contact Airbus Helicopters, 2701 N Forum Drive, Grand Prairie, TX 75052; telephone (972) 641-0000 or (800) 232-0323; fax (972) 641-3775; or at https://www.helicopters.airbus.com/website/en/ref/Technical-Support_73.html. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2020-1018.

Examining the AD Docket

You may examine the AD docket on the internet at https://www.regulations.gov by searching for and locating Docket No. FAA-2020-1018; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aviation Safety Engineer, Large Aircraft Section, International Validation Branch, FAA, 2200 South 216th St., Des Moines, WA 98198; telephone and fax 206-231-3218; email kathleen.arrigotti@faa.gov.

SUPPLEMENTARY INFORMATION:

Discussion

The EASA, which is the Technical Agent for the Member States of the European Union, has issued EASA AD 2019-0080, dated April 3, 2019 (EASA AD 2019-0080) (also referred to as the Mandatory Continuing Airworthiness Information, or the MCAI), to correct an unsafe condition for all Airbus Helicopters Model AS-365N2, AS 365 N3, EC 155B, EC155B1, SA-365N, and SA-365N1 helicopters.

The FAA issued a notice of proposed rulemaking (NPRM) to amend 14 CFR part 39 to supersede AD 2018-19-01, Amendment 39-19401 (83 FR 46862, September 17, 2018) (AD 2018-19-01). AD 2018-19-01 applied to all Airbus Helicopters Model AS 365N2, AS 365 N3, EC 155B, EC155B1, SA-365N1, and SA-366G1 helicopters. The NPRM published in the Federal Register on November 10, 2020 (85 FR 71580). The NPRM was prompted by a determination that Model SA-365N helicopters are also affected by the unsafe condition identified in AD 2018-19-01. The NPRM proposed to continue to require repetitive inspections and add Model SA-365N helicopters, as specified in an EASA AD.

The FAA is issuing this AD to address disbonding of the aft fuselage outer skin. This condition could result in loss of aft fuselage structural integrity and subsequent loss of control of the helicopter. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2019-0080 describes procedures for repetitive inspections of the aft fuselage outer skin for Model AS-365N2, AS 365 N3, EC 155B, EC155B1, SA-365N, and SA-365N1 helicopters.

Airbus Helicopters Alert Service Bulletin (ASB) No. SA366-05.48, Revision 1, dated March 27, 2019, describes procedures for repetitive inspections of the aft fuselage outer skin for Model SA366-G1 helicopters.

This AD also requires Airbus Helicopters ASB No. SA366-05.48, Revision 0, dated July 21, 2017, which the Director of the Federal Register approved for incorporation by reference as of October 22, 2018 (83 FR 46862, September 17, 2018).

This material is reasonably available because the interested parties have access to it through their normal course of business or by the means identified in the ADDRESSES section.

Differences Between This AD and the MCAI

The applicability of EASA AD 2019-0080 does not include Airbus Helicopters Model SA-366G1 helicopters. Those helicopters are no longer listed on the EASA type certificate data sheet (TCDS); however, they are still listed on the U.S. TCDS and are affected by the unsafe condition. Therefore, the FAA has included Airbus Helicopters Model SA-366G1 helicopters in the applicability of this AD.

Costs of Compliance

The FAA estimates that this AD affects 52 helicopters of U.S. registry. The FAA estimates the following costs to comply with this AD:

Estimated Costs for Required Actions
Labor cost | Parts cost | Cost per product | Cost on U.S. operators
4 work-hours × $85 per hour = $340 | $0 | $340 | $17,680

The FAA estimates the following costs to do any necessary on-condition actions that would be required based on the results of any required actions. The FAA has no way of determining the number of helicopters that might need these on-condition actions:

Estimated Costs of On-Condition Actions
Labor cost | Parts cost | Cost per product
Up to 10 work-hours × $85 per hour = $850 | Up to $20,000 | $20,850

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-19-01, Amendment 39-19401 (83 FR 46862, September 17, 2018), and adding the following new AD:

2021-02-08 Airbus Helicopters: Amendment 39-21391; Docket No. FAA-2020-1018; Project Identifier MCAI-2020-01383-R.

(a) Effective Date

This airworthiness directive (AD) is effective April 15, 2021.

(b) Affected ADs

This AD replaces AD 2018-19-01, Amendment 39-19401 (83 FR 46862, September 17, 2018) (AD 2018-19-01).

(c) Applicability

This AD applies to Airbus Helicopters Model AS-365N2, AS 365 N3, EC 155B, EC155B1, SA-365N, SA-365N1, and SA-366G1 helicopters, certificated in any category, all serial numbers.

(d) Subject

Joint Aircraft System Component (JASC) Code 5300, Fuselage Structure.

(e) Reason

This AD was prompted by aft fuselage (baggage compartment area) outer skin disbonding and a determination that Model SA-365N helicopters are also affected by the unsafe condition identified in AD 2018-19-01. The FAA is issuing this AD to address disbonding of the aft fuselage outer skin. This condition could result in loss of aft fuselage structural integrity and subsequent loss of control of the helicopter.

(f) Compliance

Comply with this AD within the compliance times specified, unless already done.

(g) Requirements

Except as specified in paragraph (h) of this AD: Comply with all required actions and compliance times specified in, and in accordance with, European Union Aviation Safety Agency (EASA) AD 2019-0080, dated April 3, 2019 (EASA AD 2019-0080).

(h) Exceptions to EASA AD 2019-0080

(1) Where EASA AD 2019-0080 refers to its effective date, this AD requires using the effective date of this AD.

(2) Where EASA AD 2019-0080 refers to September 19, 2017 (the effective date of EASA AD 2017-0165), this AD requires using October 22, 2018 (the effective date of AD 2018-19-01).

(3) For Airbus Helicopters Model SA-366G1 helicopters: Where EASA AD 2019-0080 refers to “the instructions of the applicable ASB,” use Airbus Helicopters Alert Service Bulletin (ASB) No. SA366-05.48, Revision 0, dated July 21, 2017; or Airbus Helicopters ASB No. SA366-05.48, Revision 1, dated March 27, 2019.

(4) Where EASA AD 2019-0080 refers to Group 1 helicopters, for this AD, Model SA-366G1 helicopters are considered Group 1 helicopters.

(5) Paragraph (5) of EASA AD 2019-0080 specifies to “contact AH [Airbus Helicopters] for approved skin panel repair or replacement instructions and accomplish those instructions accordingly.” For this AD, for any repair or replacement of the panel done before the effective date of this AD, it is not required to contact Airbus Helicopters. For any repair or replacement of the panel done on or after the effective date of this AD, the repair or replacement must be done using a method approved by the Manager, Strategic Policy Rotorcraft Section, FAA. For a repair or replacement method to be approved by the Manager, Strategic Policy Rotorcraft Section, FAA, as required by this paragraph, the Manager's approval letter must specifically refer to this AD.

(6) The “Remarks” section of EASA AD 2019-0080 does not apply to this AD.

(7) Where EASA AD 2019-0080 refers to flight hours (FH), this AD requires using hours time-in-service.

(i) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the Strategic Policy Rotorcraft Section, send it to: Manager, Strategic Policy Rotorcraft Section, FAA, 10101 Hillwood Pkwy., Fort Worth, TX 76177; telephone 817-222-5110. Information may be emailed to: 9-ASW-FTW-AMOC-Requests@faa.gov.

(2) Before using any approved AMOC, notify your appropriate principal inspector, or lacking a principal inspector, the manager of the local flight standards district office/certificate holding district office.

(j) Related Information

For more information about this AD, contact Kathleen Arrigotti, Aviation Safety Engineer, Large Aircraft Section, International Validation Branch, FAA, 2200 South 216th St., Des Moines, WA 98198; telephone and fax 206-231-3218; email kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 15, 2021.

(i) Airbus Helicopters Alert Service Bulletin (ASB) No. SA366-05.48, Revision 1, dated March 27, 2019.

(ii) European Union Aviation Safety Agency (EASA) AD 2019-0080, dated April 3, 2019.

(4) The following service information was approved for IBR on October 22, 2018 (83 FR 46862, September 17, 2018).

(i) Airbus Helicopters ASB No. SA366-05.48, Revision 0, dated July 21, 2017.

(ii) [Reserved]

(5) For EASA AD 2019-0080, contact the EASA, Konrad-Adenauer-Ufer 3, 50668 Cologne, Germany; telephone +49 221 8999 000; email ADs@easa.europa.eu; Internet www.easa.europa.eu. You may find this EASA AD on the EASA website at https://ad.easa.europa.eu.

(6) For Airbus Helicopters service information, contact Airbus Helicopters, 2701 N Forum Drive, Grand Prairie, TX 75052; telephone (972) 641-0000 or (800) 232-0323; fax (972) 641-3775; or at https://www.helicopters.airbus.com/website/en/ref/Technical-Support_73.html.

(7) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2020-1018.

(8) You may view this material that is incorporated by reference at the National Archives and Records Administration (NARA). For information on the availability of this material at NARA, email fedreg.legal@nara.gov, or go to: https://www.archives.gov/federal-register/cfr/ibr-locations.html.

Issued on January 12, 2021.
Lance T. Gant,
Director, Compliance & Airworthiness Division, Aircraft Certification Service.

[FR Doc. 2021-05091 Filed 3-10-21; 8:45 am]

BILLING CODE 4910-13-P